ENVIRONMENTAL PROTECTION AGENCY

[EPA-HQ-OPP-2007-0137; FRL-8140-1]

Pesticide Program Dialogue Committee: Registration Review Implementation Work Group; Notice of Public Meeting

AGENCY: Environmental Protection Agency (EPA).

ACTION: Notice.

SUMMARY: EPA's Pesticide Program Dialogue Committee (PPDC): Registration Review Implementation Work Group will hold a public meeting on July 24, 2007. An agenda for this meeting will be developed and posted on EPA's Web site. The Registration Review Implementation Work Group will review initial registration review dockets for antimicrobial and biopesticide cases, and may make recommendations to improve future dockets.

DATES: The Registration Review Work Group meeting will be held on July 24, 2007 from 10 a.m. to 4 p.m.. Future meetings will be announced on the work group's Web sites (see: Active Workgroups menu at: http://www.epa.gov/oppfead1/cb/ppdc/).

To request accommodation of a disability, please contact the person listed under FOR FURTHER INFORMATON CONTACT, preferably at least 10 days prior to the meeting, to give EPA as much time as possible to process your request.

ADDRESSES: The meeting will all be held at EPA's offices at 2777 South Crystal Dr., First Floor Conference Center, Arlington, VA 22202.

FOR FURTHER INFORMATION CONTACT: Amaris Johnson, Special Review and Reregistration Division (7508P), Office of Pesticide Programs, Environmental Protection Agency, 1200 Pennsylvania Ave., NW., Washington, DC 20460-0001; telephone number: (703) 305-9542; fax number: (703) 308-7090; e-mail address: johnson.amaris@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the persons listed under FOR FURTHER INFORMATION CONTACT.

B. How Can I Get Copies of this Document and Other Related Information?

1. Docket. EPA has established a docket for this action under docket identification (ID) number EPA-HQ-OPP-2007-0137. Publicly accessible docket materials are available either in the electronic docket at http://www.regulations.gov, or, available in hard copy, at the Office of Pesticide Programs (OPP) Regulatory Public Docket in Rm. S-4400, One Potomac Yard (South Bldg.), 2777 S. Crystal D. Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

The Office of Pesticide Programs is entrusted with the responsibility of ensuring the safety of the American food supply, protection and education of those who apply or are exposed to pesticides occupationally or through use of products, and the general protection of the environment and special ecosystems from potential risks posed by pesticides.

PPDC was established under the Federal Advisory Committee Act (FACA), Public Law 92-463, in September 1995 for a two-year term and has been renewed every two years since that time. PPDC provides advice and recommendations to OPP on a broad range of pesticide regulatory, policy, and program implementation issues that are associated with evaluating and reducing risks from use of pesticides. The following sectors are represented on the PPDC: pesticide industry and trade associations; environmental/public interest and consumer groups; farm worker organizations; pesticide user, grower, and commodity groups; federal/state/local/ and tribal governments; the general public; academia; and public health organizations.

Copies of the PPDC charter are filed with appropriate committees of Congress, the Library of Congress, and are available upon request.

List of Subjects

Environmental protection, Pesticides and pests.

Dated: March 5, 2007.
Peter Caulkins,
Acting Director, Special Review and Reregistration Division

[FR Doc. E7-13629 Filed 7-17-07; 8:45 am]

BILLING CODE 6560-50-S